POSTAL SERVICE

39 CFR Part 111

Priority Mail Express Refunds

AGENCY: Postal Service™.

ACTION: Proposed rule.

SUMMARY: The Postal Service is proposing to amend Mailing Standards of the United States Postal Service, Domestic Mail Manual (DMM®) to discontinue Priority Mail Express® postage refunds for guaranteed service for Alaska and Hawaii.

DATES: Submit comments on or before June 22, 2023.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Priority Mail Express Refunds”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC, 20260. These records are available for review on Monday through Friday, 9 a.m.-4 p.m., by calling 202-268-2906.

FOR FURTHER INFORMATION CONTACT: Catherine Knox at (202) 268-5636 or Garry Rodriguez at (202) 268-7281.

SUPPLEMENTARY INFORMATION: Currently, except as provided in DMM 604.9.5.5, the Postal Service offers postage refunds for guaranteed service.

The Postal Service has determined that operationally we cannot meet the service commitments for Priority Mail Express expected by customers for Alaska and Hawaii.

As a result, the Postal Service is proposing to discontinue postage refunds for guaranteed service for Priority Mail Express pieces destined to or originating from Alaska or Hawaii. Postage refunds for loss will still be available for pieces destined to or originating from Alaska or Hawaii.

The Postal Service is proposing to implement this change effective August 1, 2023.

We believe the proposed revision will provide customers with a more efficient mailing experience.

List of Subjects in 39 CFR Part 111

Administrative practice and procedure, Postal Service.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

PART 111—[AMENDED.]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

600 Basic Standards for All Mailing Services

* * * * *

604 Postage Payment Methods and Refunds

* * * * *

9.0 Exchanges and Refunds

* * * * *

9.5 Priority Mail Express Postage and Fees Refunds

* * * * *

9.5.5 Refunds Not Given

Postage will not be refunded if the guaranteed service was not provided due to any of the following circumstances:

* * * * *

[Renumber items i and j as j and k, and add new item i to read as follows:]

i. The postage refund requested is other than for loss, and the Priority Mail Express piece was destined to or originated from Alaska or Hawaii.

* * * * *

Sarah Sullivan,
Attorney, Ethics and Legal Compliance.

[FR Doc. 2023-10911 Filed 5-22-23; 8:45 am]

BILLING CODE 3510-16-P